NATIONAL HIGHWAY TRAFFIC SAFETY ADMINISTRATION

[Docket No. NHTSA-2009-0086]

Technical Report on the Maintenance and Repair Expenses to the ABS and Underride Guard on Heavy Tractors and Trailers

AGENCY: National Highway Traffic Safety Administration (NHTSA), Department of Transportation.

ACTION: Request for comments on technical report.

SUMMARY: This notice announces the publication by NHTSA of an analysis of the costs to repair and maintain the Anti-Lock Brake System (ABS) and Underride Guard (URG) on heavy tractors and trailers. Federal Motor Vehicle Safety Standards 121 and 105 mandate antilock braking systems (ABS) on all air-braked vehicles and hydraulic-braked trucks and buses with a GVWR of 10,000 pounds or greater. FMVSS Nos. 223 and 224 require underride guards (URG) meeting a strength test on trailers with a GVWR of 10,000 pounds or greater.

DATES: Comments must be received no later than August 20, 2009.

ADDRESSES: Report: The technical report is available on the Internet for viewing in PDF format at http://www-nrd.nhtsa.dot.gov/Pubs/811109.PDF. You may obtain a copy of the report free of charge by sending a self-addressed mailing label to Kirk Allen (NVS-431), National Highway Traffic Safety Administration, 1200 New Jersey Avenue, SE., Washington, DC 20590.

Comments: You may submit comments [identified by Docket Number NHTSA-2009-0086] by any of the following methods:

• Federal eRulemaking Portal: Go to http://www.regulations.gov. Follow the online instructions for submitting comments.

• Fax: 1-202-493-2251.

• Mail: Docket Management Facility, M-30, U.S. Department of Transportation, West Building, Ground Floor, Rm. W12-140, 1200 New Jersey Avenue, SE., Washington, DC 20590.

• Hand Delivery: West Building Ground Floor, Room W12-140, 1200 New Jersey Avenue, SE., between 9 am and 5 pm Eastern Time, Monday through Friday, except Federal holidays.

You may call Docket Management at 202-366-9826.

Instructions: For detailed instructions on submitting comments, see the Procedural Matters section of this document. Note that all comments received will be posted without change to http://www.regulations.gov, including any personal information provided.

FOR FURTHER INFORMATION CONTACT: Kirk Allen, Statistician, Evaluation Division, NVS-431, National Center for Statistics and Analysis, National Highway Traffic Safety Administration, Room W53-457, 1200 New Jersey Avenue, SE., Washington, DC 20590. Telephone: 202-366-9308. E-mail: kirk.allen@dot.gov.

For information about NHTSA's evaluations of the effectiveness of existing regulations and programs: Visit the NHTSA Web site at http://www.nhtsa.dot.gov and click “NCSA” near the upper right corner on the home page; then click “Regulatory Evaluation” under “Browse Topics” on the “NCSA” page.

SUPPLEMENTARY INFORMATION: Federal Motor Vehicle Safety Standards mandate antilock braking systems (ABS) on heavy vehicles and underride guards (URG) on heavy trailers. Repair receipts from in-service vehicles were analyzed to estimate the maintenance and repair expenses to the ABS and URG. The average ABS expenses per month of operation were $0.85 for tractors and $0.25 for trailers. The presence of ABS did not increase expenses to other parts of the brake system. The estimated lifetime maintenance and repair expenses were notably smaller than the cost of equipping new vehicles with ABS. Repairs to the trailer URG averaged $0.16 per month of service. (All values are in 2007 dollars.)

Procedural Matters

How can I influence NHTSA's thinking on this subject?

NHTSA welcomes public review of the technical report. The agency is interested in learning of any additional data that may be useful in the evaluations. The availability of data on later model year tractors and trailers is especially relevant because ABS-equipped vehicles in this analysis could have been at most six years old. NHTSA will submit to the Docket a response to the comments and, if appropriate, will supplement or revise the report.

How do I prepare and submit comments?

Your comments must be written and in English. To ensure that your comments are correctly filed in the Docket, please include the Docket number of this document (NHTSA-2009-0086) in your comments.

Your primary comments must not be more than 15 pages long (49 CFR 553.21). However, you may attach additional documents to your primary comments. There is no limit on the length of the attachments.

Anyone is able to search the electronic form of all comments received into any of our dockets by the name of the individual submitting the comment (or signing the comment, if submitted on behalf of an association, business, labor union, etc.). You may review DOT's complete Privacy Act Statement in the Federal Register published on April 11, 2000 (65 FR 19477) or you may visit http://regulations.gov.

Please send two paper copies of your comments to Docket Management, fax them, or use the Federal eRulemaking Portal. The mailing address is U.S. Department of Transportation, Docket Management Facility, M-30, West Building, Ground Floor, Rm. W12-140, 1200 New Jersey Avenue, SE., Washington, DC 20590. The fax number is 1-202-493-2251. To use the Federal eRulemaking Portal, go to http://www.regulations.gov and follow the online instructions for submitting comments.

We also request, but do not require you to send a copy to Kirk Allen, Statistician, Evaluation Division, NVS-431, National Highway Traffic Safety Administration, Room W53-312, 1200 New Jersey Avenue, SE., Washington, DC 20590 (or e-mail them to kirk.allen@dot.gov). He can check if your comments have been received at the Docket and he can expedite their review by NHTSA.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, National Highway Traffic Safety Administration, 1200 New Jersey Avenue, SE., Washington, DC 20590. Include a cover letter supplying the information specified in our confidential business information regulation (49 CFR Part 512).

In addition, send two copies from which you have deleted the claimed confidential business information to U.S. Department of Transportation, Docket Management Facility, M-30, West Building, Ground Floor, Rm. W12-140, 1200 New Jersey Avenue, SE., Washington, DC 20590, or submit them via the Federal eRulemaking Portal.

Will the agency consider late comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How can I read the comments submitted by other people?

You may read the materials placed in the docket for this document (e.g., the comments submitted in response to this document by other interested persons) at any time by going to http://www.regulations.gov. Follow the online instructions for accessing the dockets. You may also read the materials at the Docket Management Facility by going to the street address given above under ADDRESSES. The Docket Management Facility is open between 9 a.m. and 5 p.m. Eastern Time, Monday through Friday, except Federal holidays.

Authority: 49 U.S.C. 30111, 30168; delegation of authority at 49 CFR 1.50 and 501.8.

James F. Simons,
Director, Office of Regulatory Analysis and Evaluation.

[FR Doc. E9-9401 Filed 4-23-09; 8:45 am]

BILLING CODE 4910-59-P